DEPARTMENT OF THE TREASURY

Office of Foreign Assets Control

Sanctions Actions Pursuant to Executive Order 13224

AGENCY: Office of Foreign Assets Control, Treasury.

ACTION: Notice.

SUMMARY: The Treasury Department's Office of Foreign Assets Control (“OFAC”) is publishing the names of 3 individuals whose property and interests in property are blocked pursuant to Executive Order 13224 of September 23, 2001, “Blocking Property and Prohibiting Transactions With Persons Who Commit, Threaten To Commit, or Support Terrorism.”

DATES: OFAC's actions described in this notice are effective on October 5, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On October 5, 2015, OFAC blocked the property and interests in property of the following individuals pursuant to E.O. 13224, “Blocking Property and Prohibiting Transactions With Persons Who Commit, Threaten To Commit, or Support Terrorism”:

1. ATABIYEV, Islam Seit-Umarovich (a.k.a. ATABIEV, Islam; a.k.a. ATABIYEV, Islam; a.k.a. DZHIKHAD, Abu; a.k.a. “AL-SHISHANI, Abu-Jihad”; a.k.a. “THE CHECHEN, Abu Jihad”); DOB 29 Jun 1983; POB Stavropol Region, Russia; nationality Russia; Passport 620169661 (Russia); alt. Passport 9103314932 (Russia) issued 16 Aug 2003 (individual) [SDGT] (Linked To: JAM'AT AL TAWHID WA'AL-JIHAD).

2. GUCHAYEV, Zaurbek (a.k.a. GUCHAEV, Zaurbek; a.k.a. “AZIZ, Abdul”); DOB 04 Sep 1975; POB Chegem/Kabardino-Balkaria, Russia (individual) [SDGT] (Linked To: CAUCASUS EMIRATE).

3. CHATAYEV, Akhmed (a.k.a. CHATAEV, Ahmed; a.k.a. CHATAEV, Akhmed Rajapovich; a.k.a. CHATAEV, Akhmet; a.k.a. CHATAYEV, Akhmad; a.k.a. CHATAYEV, Akhmet; a.k.a. MAYER, David; a.k.a. SENE, Elmir; a.k.a. TSCHATAJEV, Achmed Radschapovitsch; a.k.a. TSCHATAJEV, Ahmed Radschapovitsch; a.k.a. TSCHATAYEV, Achmed Radschapovitsch; a.k.a. TSCHATAYEV, Ahmed Radschapovitsch; a.k.a. “Akhmed Odnorukiy”; a.k.a. “Akhmed the One-Armed”; a.k.a. “AL-SHISHANI, Akhmed”; a.k.a. “CHATAEV, A.R.”; a.k.a. “Odnorukiy”; a.k.a. “SHISHANI, Akhmad”); DOB 14 Jul 1980; POB Vedeno Village, Vedenskiy District, the Republic of Chechnya, Russia; citizen Russia; Passport 96001331958 (Russia) (individual) [SDGT] (Linked To: JAM'AT AL TAWHID WA'AL-JIHAD).

Dated: October 5, 2015.
John E. Smith,
Acting Director, Office of Foreign Assets Control.

[FR Doc. 2015-25618 Filed 10-7-15; 8:45 am]

BILLING CODE 4810-AL-P